SURFACE TRANSPORTATION BOARD

[Docket No. FD 36427]

Akron Barberton Cluster Railway Company—Amendment of Lease Exemption—Metro Regional Transit Authority

Akron Barberton Cluster Railway Company (ABC), a Class III switching and terminal railroad, filed a verified notice of exemption under 49 CFR 1150.41 to amend its lease from Metro Regional Transit Authority (Metro) of an existing rail freight operating easement on a 6.72-mile rail line extending from approximately milepost 40.42 in Akron to approximately milepost 33.70 in Krumroy, in Summit County, Ohio (the Line).¹

¹ ABC obtained authority to lease and operate the subject rail line in Akron Barberton Cluster Railway—Lease & Operation Exemption—Metro Regional Transit Authority, FD 34362 (STB served July 11, 2003), and authority for a previous lease amendment in Akron Barberton Cluster Railway—Lease & Operation Exemption—Metro Regional Transit Authority, FD 35944 (STB served July 23, 2015).

ABC states it will continue to provide freight rail service between the industries on the Line and connecting line-haul carriers Wheeling & Lake Erie Railway Company and CSX Transportation, Inc., in Akron/Barberton, Ohio. ABC further states that Metro, as the owner and lessor of the freight easement, will retain a residual common carrier obligation on the Line but will not operate any freight rail service on the Line.

ABC certifies that its projected annual revenues as a result of this transaction will not exceed those that would qualify it as a Class II or Class I rail carrier and will not exceed $5 million. ABC also states that the lease agreement does not contain any provision that would limit ABC's future interchange of traffic on the line with a third-party connecting carrier.

ABC intends to consummate the amendment to the lease on or shortly after September 17, 2020, the effective date of the exemption (30 days after the verified notice of exemption was filed).

If the verified notice contains false or misleading information, the exemption is void ab initio. Petitions to revoke the exemption under 49 U.S.C. 10502(d) may be filed at any time. The filing of a petition to revoke will not automatically stay the effectiveness of the exemption. Petitions to stay must be filed no later than September 10, 2020 (at least seven days before the exemption becomes effective).

An original and 10 copies of all pleadings, referring to Docket No. FD 36427, must be filed with the Surface Transportation Board either via e-filing or in writing addressed to 395 E Street SW, Washington, DC 20423-0001. In addition, one copy of each pleading must be served on ABC's representative, Michael J. Barron, Jr., Fletcher & Sippel LLC, 29 North Wacker Drive, Suite 800, Chicago, IL 60606.

According to ABC, this action is categorically excluded from environmental review under 49 CFR 1105.6(c) and from historic preservation reporting requirements under 49 CFR 1105.8(b).

Board decisions and notices are available at www.stb.gov.

Decided: August 28, 2020.
By the Board, Allison C. Davis, Director, Office of Proceedings.
Eden Besera,
Clearance Clerk.

[FR Doc. 2020-19456 Filed 9-2-20; 8:45 am]

BILLING CODE 4915-01-P